DEPARTMENT OF THE TREASURY

Submission for OMB Review; Comment Request

December 5, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before January 10, 2001, to be assured of consideration.

Internal Revenue Service (IRS)

OMB Number: 1545-1701.

Revenue Procedure Number: Revenue Procedure 2000-37.

Type of Review: Extension.

Title: Reverse Like-Kind Exchanges.

Description: The revenue procedure provides a safe harbor for reverse like-kind exchanges under which a transaction using a “qualified exchange accommodation agreement” will qualify for non-recognition treatment under § 1031 of the Internal Revenue Code.

Respondents: Business or other for-profit, Individuals or households, farms.

Estimated Number of Respondents/Recordkeepers: 1,600.

Estimated Burden Hours Per Respondent/Recordkeeper: 2 hours.

Frequency of Response: Other (one time per transaction).

Estimated Total Reporting/Recordkeeping Burden: 3,200 hours.

Clearance Officer: Garrick Shear, Internal Revenue Service, Room 5244, 1111 Constitution Avenue, NW, Washington, DC 20224

OMB Reviewer: Alexander T. Hunt, (202) 395-7860, Office of Management and Budget, Room 10202, New Executive Office Building, Washington, DC 20503

Lois K. Holland,
Departmental Reports Management Officer.

[FR Doc. 00-31376 Filed 12-8-00; 8:45 am]

BILLING CODE 4830-01-U